DEPARTMENT OF DEFENSE

Defense Acquisition Regulations System

48 CFR Chapter 2

RIN 0750-AF56

Defense Federal Acquisition Regulation Supplement; Emergency Acquisitions (DFARS Case 2006-D036)

AGENCY: Defense Acquisition Regulations System, Department of Defense (DoD).

ACTION: Final rule.

SUMMARY: DoD has adopted as final, without change, an interim rule amending the Defense Federal Acquisition Regulation Supplement (DFARS) to provide a single reference to DoD-unique acquisition flexibilities that may be used to facilitate and expedite acquisitions of supplies and services during emergency situations.

EFFECTIVE DATE: September 6, 2007.

FOR FURTHER INFORMATION CONTACT: Mr. Michael Benavides, Defense Acquisition Regulations System, OUSD (AT&L) DPAP (DARS), IMD 3D139, 3062 Defense Pentagon, Washington, DC 20301-3062. Telephone (703) 602-1302; facsimile (703) 602-7887. Please cite DFARS Case 2006-D036.

SUPPLEMENTARY INFORMATION:

A. Background

DoD published an interim rule at 72 FR 2631 on January 22, 2007, to provide a single reference to the acquisition flexibilities that may be used to facilitate and expedite DoD acquisitions of supplies and services during emergency situations. The rule supplements the Governmentwide acquisition flexibilities found in Part 18 of the Federal Acquisition Regulation.

DoD received no comments on the interim rule. Therefore, DoD has adopted the interim rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule is a compilation of existing authorities, and makes no change to DoD contracting policy.

C. Paperwork Reduction Act

The Paperwork Reduction Act does not apply, because the rule does not impose any information collection requirements that require the approval of the Office of Management and Budget under 44 U.S.C. 3501, et seq.

List of Subjects in 48 CFR Chapter 2

Government procurement.

Michele P. Peterson,
Editor, Defense Acquisition Regulations System.

Chapter 2—Amended

Interim Rule Adopted as Final Without Change

Accordingly, the interim rule amending 48 CFR Chapter 2, which was published at 72 FR 2631 on January 22, 2007, is adopted as a final rule without change.

[FR Doc. E7-17432 Filed 9-5-07; 8:45 am]

BILLING CODE 5001-08-P